DEPARTMENT OF THE INTERIOR

National Park Service

Denali National Park and Preserve, AK; Final Backcountry Management Plan, General Management Plan Amendment and Environmental Impact Statement

AGENCY: National Park Service, Interior.

ACTION: Notice of availability of the Final Backcountry Management Plan, General Management Plan Amendment and Environmental Impact Statement.

SUMMARY: The National Park Service (NPS) announces the availability of the Final Backcountry Management Plan, General Management Plan Amendment and Environmental Impact Statement (EIS) for Denali National Park and Preserve. The document describes and analyzes the environmental impacts of a preferred alternative and three other action alternatives for managing the park and preserve's backcountry. A no action alternative also is evaluated.

DATES: A Record of Decision will be made no sooner than 30 days after the date the Environmental Protection Agency's Notice of Availability for this final EIS appears in the Federal Register.

ADDRESSES: The Final Plan and EIS may be viewed online at http://www.nps.gov/dena through the “in Depth” link on our homepage under “Planning and Management.” Hard copies or CDs of the Final Backcountry Management Plan and General Management Plan Amendment and EIS are available on request from the address below.

FOR FURTHER INFORMATION CONTACT: Mike Tranel, Chief of Planning, Denali National Park and Preserve, 240 West 5th Avenue, Anchorage, Alaska 99501. Telephone: (907) 644-3611, Fax: (907) 644-3803.

SUPPLEMENTARY INFORMATION: Pursuant to section 102(2)(C) of the National Environmental Policy Act of 1969 (Pub. L. 91-190, as amended), the NPS has prepared a final environmental impact statement that considers five alternatives for managing the park and preserve's backcountry. The five alternatives evaluated in this EIS included four action alternatives and a no action alternative.

Alternative 1 (No Action): The National Park Service would continue the present management direction, guided by the 1986 General Management Plan, the 1997 Entrance Area Road Corridor Development Concept Plan, the 1997 South Side Denali Development Concept Plan, the 1997 Strategic Plan, and the 1976 backcountry management plan with amendments. Recreational use and access patterns would continue to develop and the agency would respond as necessary on a case-by-case basis. No new services or facilities would be developed to meet increased levels of use in the backcountry, except for those identified in the Entrance Area or South Side plans.

Alternative 2: This alternative would distinguish a unique Denali experience based on dispersed use in a wilderness landscape with few sights or sounds of people or mechanized civilization. There would be few services, facilities, or signs of management presence. This alternative would most clearly distinguish the backcountry experience in Denali from the surrounding public lands, providing a place primarily for visitors who are very self-reliant, and including many opportunities for extended expeditions in very remote locations. Backcountry users seeking other experiences would find those opportunities on neighboring lands.

Alternative 3: This alternative would provide a variety of wilderness recreational activities by establishing areas to serve those visitors who want to experience the wilderness resource values of the Denali backcountry but require services, assistance, or short time-commitments. The areas would be the minimum necessary to provide these experiences based on present demand and would be focused along the park road in the Old Park and Kantishna and at the existing high activity areas at the Ruth Glacier and Kahiltna Base Camp. The majority of the backcountry would be managed for dispersed, self-reliant travel and would include opportunities for extended expeditions in very remote locations.

Alternative 4: Modified (Preferred Alternative): Alternative 4 from the Revised Draft was modified for the final plan to respond to substantive public comments. Management area allocations and corridors were adjusted slightly, and indicators and standards for wildlife were added. The hierarchy for guided services and educational programs was removed and replaced with a statement indicating that NPS and Murie Science and Learning Center activities would have a priority for available backcountry capacity where such capacity is limited. Definitions of scenic air tours and air taxis were clarified. The restriction that would prohibit scenic air tours from landing on the Pika or Eldridge Glaciers when climbers or mountaineers are present was modified. Scenic air tour landings may take place when climbers are present, but those landings are subject to management area standards, cannot occur when other landing locations are available, and are discouraged when climbers are present. Guided day-hiking in the Old Park would be restricted to areas west of Toklat River with access from Kantishna, plus the hiking in the Wonder Lake area authorized by the Entrance Area and Road Corridor DCP. The total number of groups would be limited to the average number of groups over the previous 5 years. Language describing backcountry facilities and administrative and scientific activities was also modified to address substantive public comments. Specifically, the requirement to develop management area-specific criteria for research and resource management activities was removed in favor of a requirement to obtain research permits.

This modified alternative would guide the National Park Service in providing opportunities for a variety of wilderness recreational activities and experiences while recognizing and protecting the premier wilderness resource values of the entire backcountry. Areas in the Dunkle Hills and around the Ruth and Tokositna Glaciers on the south side of the Alaska Range would be managed for those visitors who want to experience the wilderness resource values or other resource values of the Denali backcountry but require services or assistance, or who are unable to make a lengthy time commitment. Areas along the park road in the Old Park and the Kantishna Hills would provide accessible opportunities for short- or long-duration wilderness recreational activities with only limited options for guidance or assistance the farther one gets from the park road. The remainder of the backcountry would be managed for dispersed, self-reliant travel, and would include opportunities for extended expeditions in very remote locations.

Alternative 5: This alternative would create two distinct geographic areas that provide different kinds of visitor experiences in the Denali backcountry. The Old Park and the Denali Additions north of the Alaska Range would be primarily managed for dispersed, self-reliant travel although no areas would be managed specifically to preserve opportunities for extended expeditions in remote locations. Areas along the park road and in Kantishna that presently receive a relatively high volume of use and large parts of the additions south of the Alaska Range would be managed for a greater intensity and variety of appropriate recreational activities and would have more visible management presence and opportunities for more services and facilities.

The responsible official for a Record of Decision on the proposed action is the NPS Regional Director in Alaska.

Dated: December 23, 2006.
Marcia Blaszak,
Regional Director, Alaska Region.

[FR Doc. 06-481 Filed 1-18-06; 8:45 am]

BILLING CODE 4310-PF-M